DEPARTMENT OF TRANSPORTATION

Federal Aviation Administration

14 CFR Part 39

[Docket No. FAA-2021-1176; Project Identifier MCAI-2021-00755-R]

RIN 2120-AA64

Airworthiness Directives; Airbus Helicopters

AGENCY: Federal Aviation Administration (FAA), DOT.

ACTION: Notice of proposed rulemaking (NPRM).

SUMMARY: The FAA proposes to adopt a new airworthiness directive (AD) for certain Airbus Helicopters Model SA330J helicopters. This proposed AD was prompted by a review of Model EC225LP helicopter data that revealed potential tightening torque loss of the attachment screws of the upper deck fittings of the three main gearbox (MGB) suspension bars. Due to design similarities, the MGB right-hand (RH) rear fittings and MGB RH rear fitting attachment screws on Model SA330J helicopters could also be affected. Additional analysis confirmed that the service life limit (life limit) (SLL) for these affected MGB RH rear fittings needs to be reduced for helicopters on which these affected parts were operated concurrently with metallic main rotor blades installed. This proposed AD would require determining the damage value and SLL of each affected MGB RH rear fitting, replacing each affected MGB RH rear fitting with a new part, and replacing the MGB RH rear fitting attachment screws, as specified in a European Union Aviation Safety Agency (EASA) AD, which is proposed for incorporation by reference (IBR). The FAA is proposing this AD to address the unsafe condition on these products.

DATES: The FAA must receive comments on this proposed AD by February 28, 2022.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For EASA material that is proposed for IBR in this AD, contact EASA, Konrad-Adenauer-Ufer 3, 50668 Cologne, Germany; telephone +49 221 8999 000; email ADs@easa.europa.eu; internet www.easa.europa.eu. You may find the EASA material on the EASA website at https://ad.easa.europa.eu. You may view this material at the FAA, Office of the Regional Counsel, Southwest Region, 10101 Hillwood Pkwy., Room 6N-321, Fort Worth, TX 76177. For information on the availability of this material at the FAA, call (817) 222-5110. This EASA material is also available at https://www.regulations.gov by searching for and locating Docket No. FAA-2021-1176.

Examining the AD Docket

You may examine the AD docket at https://www.regulations.gov by searching for and locating Docket No. FAA-2021-1176; or in person at Docket Operations between 9 a.m. and 5 p.m., Monday through Friday, except Federal holidays. The AD docket contains this NPRM, the EASA AD, any comments received, and other information. The street address for Docket Operations is listed above.

FOR FURTHER INFORMATION CONTACT: Hal Jensen, Aerospace Engineer, Operational Safety Branch, FAA, 950 L'Enfant Plaza SW, Washington, DC 20024; telephone (202) 267-9167; email hal.jensen@faa.gov.

SUPPLEMENTARY INFORMATION:

Comments Invited

The FAA invites you to send any written relevant data, views, or arguments about this proposal. Send your comments to an address listed under ADDRESSES. Include “Docket No. FAA-2021-1176; Project Identifier MCAI-2021-00755-R” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Hal Jensen, Aerospace Engineer, Operational Safety Branch, FAA, 950 L'Enfant Plaza SW, Washington, DC 20024; telephone (202) 267-9167; email hal.jensen@faa.gov. Any commentary that the FAA receives that is not specifically designated as CBI will be placed in the public docket for this rulemaking.

Background

EASA, which is the Technical Agent for the Member States of the European Union, has issued EASA AD 2021-0152R1, dated July 20, 2021 (EASA AD 2021-0152R1), to correct an unsafe condition for Airbus Helicopters (formerly Eurocopter, Eurocopter France, Aerospatiale, Sud Aviation) Model SA 330 J helicopters, all serial numbers, which were modified in service in accordance with the instructions of Eurocopter France Service Bulletin (SB) No. 01.20 (part of which is the in-service retrofit Modification (Mod) 07 40043), except those on which each affected part (as defined in EASA AD 2021-0152R1) was replaced with a new part (not previously installed) during embodiment of Eurocopter France SB No. 01.20 in service.

This proposed AD was prompted by a review of Model EC225LP helicopter in-service data that revealed potential tightening torque loss of the attachment screws of the upper deck fittings of the three MGB suspension bars. The FAA issued AD 2020-06-12, Amendment 39-19881 (85 FR 19077, April 6, 2020) to address the unsafe condition on Model EC225LP helicopters). Due to design similarities, the MGB RH rear fittings and MGB RH rear fitting attachment screws on Model SA330J helicopters could also be affected. Additional analysis confirmed that the SLL for these affected MGB RH rear fittings needs to be reduced for helicopters on which these affected parts were operated concurrently with metallic main rotor blades (pre-Airbus Helicopters Modification 07 40043) installed. Airbus Helicopters Modification 07 40043 introduced the installation of composite main rotor blades.

The FAA is proposing this AD to address tightening torque loss of the attachment screws of the upper deck fittings of the three MGB suspension bars. The unsafe condition, if not addressed, could result in structural failure of the MGB RH rear fittings and MGB RH rear fitting attachment screws, resulting in detachment of the MGB suspension bars and consequent loss of control of the helicopter. See EASA AD 2021-0152R1 for additional background information.

Related Service Information Under 1 CFR Part 51

EASA AD 2021-0152R1 requires determining the damage value of each affected MGB RH rear fitting by calculating the damage caused during the time each affected part was operated concurrently with metallic main rotor blades installed on the helicopter, calculating the SLL for each affected MGB RH rear fitting, and eventually replacing each affected MGB RH rear fitting and the MGB RH rear fitting attachment screws with new parts.

This material is reasonably available because the interested parties have access to it through their normal course of business or by the means identified in the ADDRESSES section.

FAA's Determination

These helicopters have been approved by EASA and are approved for operation in the United States. Pursuant to the FAA's bilateral agreement with the European Union, EASA has notified the FAA about the unsafe condition described in its AD. The FAA is proposing this AD after evaluating all known relevant information and determining that the unsafe condition described previously is likely to exist or develop on other helicopters of the same type design.

Proposed AD Requirements in This NPRM

This proposed AD would require accomplishing the actions specified in EASA AD 2021-0152R1, described previously, as incorporated by reference, except for any differences identified as exceptions in the regulatory text of this proposed AD.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to incorporate EASA AD 2021-0152R1 by reference in the FAA final rule. This proposed AD would, therefore, require compliance with EASA AD 2021-0152R1 in its entirety through that incorporation, except for any differences identified as exceptions in the regulatory text of this proposed AD. Using common terms that are the same as the heading of a particular section in EASA AD 2021-0152R1 does not mean that operators need comply only with that section. For example, where the AD requirement refers to “all required actions and compliance times,” compliance with this AD requirement is not limited to the section titled “Required Action(s) and Compliance Time(s)” in EASA AD 2021-0152R1. Service information referenced in EASA AD 2021-0152R1 for compliance will be available at https://www.regulations.gov by searching for and locating Docket No. FAA-2021-1176 after the FAA final rule is published.

Costs of Compliance

The FAA estimates that this AD, if adopted as proposed, would affect 15 helicopters of U.S. Registry. Labor rates are estimated at $85 per work-hour. Based on these numbers, the FAA estimates the following costs to comply with this proposed AD.

Estimated Costs
Action | Labor cost | Parts cost | Cost per product | Cost on U.S. operators'
Determine damage value and SLL | 1 work-hour × $85 per hour = $85 | $0 | $85 | $1,275
Replace parts | 8 work-hours × $85 per hour = $680 | 7,540 | 8,220 | 123,300

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Airbus Helicopters: Docket No. FAA-2021-1176; Project Identifier MCAI-2021-00755-R.

(a) Comments Due Date

The FAA must receive comments on this airworthiness directive (AD) by February 28, 2022.

(b) Affected ADs

None.

(c) Applicability

This AD applies to Airbus Helicopters Model SA330J helicopters, certificated in any category, as identified in European Union Aviation Safety Agency (EASA) AD 2021-0152R1, dated July 20, 2021 (EASA AD 2021-0152R1).

(d) Subject

Joint Aircraft Service Component (JASC) Code: 6300, Main Rotor Drive System.

(e) Unsafe Condition

This AD was prompted by a review of Airbus Helicopters Model EC225LP helicopter data that revealed potential tightening torque loss of the attachment screws of the upper deck fittings of the three main gearbox (MGB) suspension bars. Due to design similarities, the MGB right-hand (RH) rear fittings and MGB RH rear fitting attachment screws on Model SA330J helicopters could also be affected. Additional analysis confirmed that the service life limit (life limit) (SLL) for the affected MGB RH rear fittings needs to be reduced for helicopters on which these affected parts were operated concurrently with metallic main rotor blades installed. The FAA is issuing this AD to address tightening torque loss of the attachment screws of the upper deck fittings of the three MGB suspension bars. The unsafe condition, if not addressed, could result in structural failure of the MGB RH rear fittings and MGB RH rear fitting attachment screws, resulting in detachment of the MGB suspension bars and consequent loss of control of the helicopter.

(f) Compliance

Comply with this AD within the compliance times specified, unless already done.

(g) Requirements

Except as specified in paragraph (h) of this AD: Comply with all required actions and compliance times specified in, and in accordance with, EASA AD 2021-0152R1.

(h) Exceptions to EASA AD 2021-0152R1

(1) Where EASA AD 2021-0152R1 requires compliance in terms of flight hours, this AD requires using hours time-in-service.

(2) Where EASA AD 2021-0152R1 refers to July 9, 2021 (the effective date of EASA AD 2021-0152, dated June 25, 2021), this AD requires using the effective date of this AD.

(3) Where the service information referenced in EASA AD 2021-0152R1 specifies discarding parts, this AD requires removing those parts from service.

(4) Although the service information referenced in EASA AD 2021-0152R1 specifies that “The work must be performed on the helicopter by the operator.” this AD does not require that the operator perform the work.

(5) This AD does not mandate compliance with the “Remarks” section of EASA AD 2021-0152R1.

(6) The preliminary steps specified in paragraph 3.B.1. of the service information referenced in EASA AD 2021-0152R1 are not required for compliance with this AD.

(7) Although the service information referenced in EASA AD 2021-0152R1 specifies contacting Airbus Helicopters if the time since new (TSN) is unknown at the retrofit date, this AD requires determining the damage value and the SLL of each affected part but does not require contacting Airbus Helicopters if the TSN is unknown at the retrofit date.

(i) No Reporting Requirement

Although the service information referenced in EASA AD 2021-0152R1 specifies to submit certain information to the manufacturer, this AD does not include that requirement.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k)(2) of this AD. Information may be emailed to: 9-AVS-AIR-730-AMOC@faa.gov.

(2) Before using any approved AMOC, notify your appropriate principal inspector, or lacking a principal inspector, the manager of the local flight standards district office/certificate holding district office.

(k) Related Information

(1) For EASA AD 2021-0152R1, contact EASA, Konrad-Adenauer-Ufer 3, 50668 Cologne, Germany; telephone +49 221 8999 000; email ADs@easa.europa.eu; internet www.easa.europa.eu. You may view this material at the FAA, Office of the Regional Counsel, Southwest Region, 10101 Hillwood Pkwy., Room 6N-321, Fort Worth, TX 76177. For information on the availability of this material at the FAA, call (817) 222-5110. This material may be found in the AD docket at https://www.regulations.gov by searching for and locating Docket No. FAA-2021-1176.

(2) For more information about this AD, contact Hal Jensen, Aerospace Engineer, Operational Safety Branch, FAA, 950 L'Enfant Plaza SW, Washington, DC 20024; telephone (202) 267-9167; email hal.jensen@faa.gov.

Issued on January 4, 2022.
Lance T. Gant,
Director, Compliance & Airworthiness Division, Aircraft Certification Service.

[FR Doc. 2022-00127 Filed 1-12-22; 8:45 am]

BILLING CODE 4910-13-P